DEPARTMENT OF ENERGY

Federal Energy Regulatory Commission

[Project No. 4108-019]

City of St. Cloud; Notice of Application Tendered for Filing With the Commission and Establishing Procedural Schedule for Licensing and Deadline for Submission of Final Amendments

Take notice that the following hydroelectric application has been filed with the Commission and is available for public inspection.

a. Type of Application: New Major License.

b. Project No.: 4108-019.

c. Date Filed: December 15, 2022.

d. Applicant: City of St. Cloud.

e. Name of Project: St. Cloud Hydroelectric Project (St. Cloud Project or project).

f. Location: The project is located on the Mississippi River approximately 75 miles northwest of St. Paul, Minnesota in the City of St. Cloud, Stearns and Sherburne Counties, Minnesota. The project does not occupy any federal or Tribal lands.

g. Filed Pursuant to: Federal Power Act, 16 U.S.C. 791(a)-825(r).

h. Applicant Contact: Ms. Tracy Hodel, City of St. Cloud—Public Services Director, 1201 7th Street South, St. Cloud, MN 56301; Telephone: (320) 255-7226 or tracy.hodel@cistcloud.mn.us.

i. FERC Contact: Nicholas Ettema at (312) 596-4447, or nicholas.ettema@ferc.gov.

j. The application is not ready for environmental analysis at this time.

k. Project Description: The project consists of: (1) an approximately 3.5-mile-long, 294-surface-acre reservoir with a storage capacity of 2,254 acre-feet at a normal pool elevation of 981.0 feet National Geodetic Vertical Datum of 1929; (2) a 420-foot-long earthen embankment that abuts the east side of the dam; (3) a 550-foot-long, 19.5-foot-high concrete gravity dam and main spillway topped with inflatable crest gates; (4) a 50-foot-wide spillway containing two 20-foot-wide Tainter gates; (5) a 70-foot-wide, 122-foot-long reinforced concrete powerhouse containing two turbine-generator units with a total installed generating capacity of 8.64 megawatts and with an average annual generation of 51,500 megawatt-hours; (6) a 200-foot-long earthen embankment that abuts the west side of the dam; (7) an underground 180-foot-long, 5-kilovolt (kV) transmission line connecting the powerhouse to a step-up transformer; (8) a 5/34.5-kV step-up transformer; (9) an underground 900-foot-long, 34.5-kV transmission line connecting the step-up transformer to a non-project substation; and (10) appurtenant facilities. Average annual generation at the St. Cloud Project was 51,500 MW-hours from 2014 through 2021. City of St. Cloud is not proposing any new project facilities or changes to the operation of the project.

l. A copy of the application can be viewed on the Commission's website at http://www.ferc.gov, using the “eLibrary” link. Enter the docket number, excluding the last three digits in the docket number field, to access the document (P-4108). For assistance, contact FERC at FERCOnlineSupport@ferc.gov, or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | April 2023.
Request Additional Information (if necessary) | May 2023.
Notice of Acceptance/Notice of Ready for Environmental Analysis | October 2023.
Filing of recommendations, preliminary terms and conditions, and preliminary fishway prescriptions | December 2023.

o. Final amendments to the application must be filed with the Commission no later than 30 days from the issuance date of the notice of ready for environmental analysis.

Dated: March 15, 2023.
Kimberly D. Bose,
Secretary.

[FR Doc. 2023-06184 Filed 3-24-23; 8:45 am]

BILLING CODE 6717-01-P